DEPARTMENT OF THE INTERIOR

Fish and Wildlife Service

Notice of Intent To Prepare Comprehensive Conservation Plans and Environmental Assessments for Mandalay and Bayou Teche National Wildlife Refuges in South Louisiana

AGENCY: Fish and Wildlife Service, Interior.

ACTION: Notice of intent.

SUMMARY: This notice advises the public that the Fish and Wildlife Service intends to gather information necessary to prepare comprehensive conservation plans and environmental assessments pursuant to the National Environmental Policy Act and its implementing regulations for Mandalay and Bayou Teche National Wildlife Refuges in Terrebonne and Saint Mary Parishes, Louisiana. Mandalay and Bayou Teche Refuges are two of the eight refuges administered by the Southeast Louisiana National Wildlife Refuge Complex. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent opportunities available to the public, including opportunities for hunting, fishing, wildlife observation, wildlife photography, and environmental education and interpretation.

The purpose of this notice is to achieve the following:

(1) Advise other agencies and the public of our intentions, and

(2) Obtain suggestions and information on the scope of issues to include in the environmental documents.

DATES: Please provide written comments on the scope of issues to include in the environmental documents by May 18, 2007.

ADDRESSES: Address comments, questions, and requests for further information to the following: Charlotte Parker, Natural Resource Planner, Southeast Louisiana National Wildlife Refuge Complex, 61389 Highway 434, Lacombe, Louisiana 70445; Telephone: 985-882-2000. Comments may also be submitted electronically to Charlotte_Parker@fws.gov.

SUPPLEMENTARY INFORMATION: Open house style public scoping meetings will be held in Houma and Franklin during the comprehensive conservation plan development phase. Special mailings, newspaper articles, and other media announcements will be used to inform the public and state and local government agencies of the opportunities for input throughout the planning process. Many elements will be considered, including wildlife and habitat management, public recreational activities, and cultural resource protection. Public input into the planning process is essential. All comments received become part of the official public record. Requests for such comments will be handled in accordance with the Freedom of Information Act and other Service and Departmental policies and procedures.

Mandalay National Wildlife Refuge, established in 1996, is in Terrebone Parish in southeast Louisiana. The 4,212-acre refuge is composed of freshwater marsh and cypress-tupelo swamp. The refuge provides excellent habitat for waterfowl, wading birds, and neotropical migratory songbirds.

Bayou Teche National Wildlife Refuge, established in 2001, is in Saint Mary Parish in southeast Louisiana. The 19,113-acre refuge is composed of bottomland hardwood and cypress-gum forests. The refuge provides habitat for the threatened Louisiana black bear, as well as high-quality habitat for migratory birds.

Authority: This notice is published under the authority of the National Wildlife Refuge System Improvement Act of 1997, Public Law 105-57.

Dated: December 19, 2006.
Cynthia K. Dohner,
Acting Regional Director.

[FR Doc. E7-4911 Filed 3-16-07; 8:45 am]

BILLING CODE 4310-55-P